COMMISSION ON CIVIL RIGHTS

Correction: Notice of Public Meeting of the Ohio Advisory Committee to the U.S. Commission on Civil Rights

AGENCY: U.S. Commission on Civil Rights.

ACTION: Correction; announcement of meeting.

SUMMARY: The Commission on Civil Rights published a document August 16, 2018, announcing an upcoming Ohio Advisory Committee meeting. The document contained an incorrect address to the meeting.

FOR FURTHER INFORMATION CONTACT: Melissa Wojnaroski, DFO, at mwojnaroski@usccr.gov or 312-353-8311.

Correction

In the Federal Register of August 16, 2018, in FR Doc. 2018-17706, on page 40745 in the first column, delete the “Address” and replace it with Cleveland State University, Fenn Tower, 1983 E 24th Street, Room 303, Cleveland, OH 44115.

Dated: August 24, 2018.
David Mussatt,
Supervisory Chief, Regional Programs Unit.

[FR Doc. 2018-18750 Filed 8-28-18; 8:45 am]

BILLING CODE P